DEPARTMENT OF ENERGY

Federal Energy Regulatory Commission

Combined Notice of Filings #1

Take notice that the Commission received the following electric rate filings:

Docket Numbers: ER10-1484-012.

Applicants: Shell Energy North America (US), L.P.

Description: Supplement to November 11, 2015 Notice of Non-Material Change in Status of Shell Energy North America (US), L.P.

Filed Date: 2/10/16.

Accession Number: 20160210-5204.

Comments Due: 5 p.m. ET 3/2/16.

Docket Numbers: ER15-1332-004; ER10-2397-003; ER10-2403-005; ER10-2425-005; ER15-1020-002; ER15-1333-004.

Applicants: Arbuckle Mountain Wind Farm LLC, Arlington Wind Power Project LLC, Cloud County Wind Farm, LLC, Pioneer Prairie Wind Farm I, LLC, Rising Tree Wind Farm III LLC, Waverly Wind Farm LLC.

Description: Notice of Non-Material Change in Status of Arbuckle Mountain Wind Farm LLC, et al.

Filed Date: 2/10/16.

Accession Number: 20160210-5212.

Comments Due: 5 p.m. ET 3/2/16.

Docket Numbers: ER16-711-001.

Applicants: Pio Pico Energy Center, LLC.

Description: Tariff Amendment: Amendment to MBR to be effective 3/1/2016.

Filed Date: 2/11/16.

Accession Number: 20160211-5093.

Comments Due: 5 p.m. ET 3/3/16.

Docket Numbers: ER16-922-000.

Applicants: Southern California Edison Company.

Description: § 205(d) Rate Filing: Amendment of LGIA, Service Agreement No. 157 to be effective 4/11/2016.

Filed Date: 2/10/16.

Accession Number: 20160210-5168.

Comments Due: 5 p.m. ET 3/2/16.

Docket Numbers: ER16-923-000.

Applicants: Puget Sound Energy, Inc.

Description: § 205(d) Rate Filing: OATT EIM Changes to be effective 4/1/2012.

Filed Date: 2/10/16.

Accession Number: 20160210-5196.

Comments Due: 5 p.m. ET 3/2/16.

Docket Numbers: ER16-924-000.

Applicants: Portland General Electric Company.

Description: Initial rate filing: Service Agreement Under Portland General Electric Companys OATT to be effective 3/1/2016.

Filed Date: 2/11/16.

Accession Number: 20160211-5000.

Comments Due: 5 p.m. ET 3/3/16.

Docket Numbers: ER16-925-000.

Applicants: New York Independent System Operator, Inc.

Description: § 205(d) Rate Filing: LGIA (SA No. 2260) between NMPC and Indeck-Corinth to be effective 11/19/2015.

Filed Date: 2/11/16.

Accession Number: 20160211-5001.

Comments Due: 5 p.m. ET 3/3/16.

Docket Numbers: ER16-926-000.

Applicants: Southwest Power Pool, Inc.

Description: § 205(d) Rate Filing: 3164 Aksamit Resource Management, LLC GIA to be effective 1/19/2016.

Filed Date: 2/11/16.

Accession Number: 20160211-5038.

Comments Due: 5 p.m. ET 3/3/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2016.
Nathaniel J. Davis, Sr.,
Deputy Secretary.

[FR Doc. 2016-03320 Filed 2-17-16; 8:45 am]

BILLING CODE 6717-01-P